DEPARTMENT OF HOMELAND SECURITY

Coast Guard

[Docket No. USCG-2011-1114]

Merchant Mariner Medical Advisory Committee; Vacancy

AGENCY: United States Coast Guard, DHS.

ACTION: Request for applications.

SUMMARY: The United States Coast Guard is requesting applications from qualified candidates seeking consideration for appointment as members to the Merchant Mariner Medical Advisory Committee (MEDMAC). MEDMAC provides advice to the United States Coast Guard on matters related to medical certification determinations for issuance of licenses, certificates of registry, and merchant mariners' documents; medical standards and guidelines for the physical qualifications of operators of commercial vessels; medical examiner education; and medical research.

DATES: Applicants must send a cover letter describing their interest, reasons for application, and qualifications, and should enclose a complete professional biography or resume to LT Ashley Holm, the Alternate Designated Federal Officer (ADFO). Applications will be accepted from the time the notice is published until May 29, 2013.

ADDRESSES: Applicants must send their cover letter and resume to the following address: USCG Headquarters, CG-CVC Office of Commercial Vessel Compliance, ATTN: MEDMAC, 2100 2nd Street SW., Washington, DC 20593; or by faxing (202) 372-1246; or by emailing to ashley.e.holm@uscg.mil.

FOR FURTHER INFORMATION CONTACT: Lieutenant Ashley Holm, ADFO of MEDMAC at telephone 202-372-1128 or email to ashley.e.holm@uscg.mil.

SUPPLEMENTARY INFORMATION: The Merchant Mariner Medical Advisory Committee (MEDMAC) is an advisory committee chartered under the Federal Advisory Committee Act, 5 U.S.C. App. (Pub L. 92-463). The MEDMAC is authorized under Title 46, United States Code, Section 7115, as amended by section 210 of the Coast Guard Authorization Act of 2010 (Pub. L. 111-281.) The Committee's purpose is to advise the Secretary on matters related to medical certification determinations for issuance of licenses, certificates of registry, and merchant mariners' documents; medical standards and guidelines for the physical qualifications of operators of commercial vessels; medical examiner education; and medical research.

The Committee is expected to meet at least twice a year at various locations around the country. It may also meet intercessionally for extraordinary purposes. Working groups may also meet to consider specific tasks as required.

We will consider applications for three positions that expire on August 8, 2013 and one position that became vacant on February 20, 2013.

(a) Two professional mariners with knowledge and experience in mariner occupational requirements.

(b) Two health care professionals with particular expertise, knowledge, or experience regarding medical examinations of merchant mariners or occupational medicine.

The members appointed will serve a term of office of 5 years. However, due to a professional mariner resignation, when appointed, one professional mariner will fill the unexpired term that expires on August 8, 2016. The members may be considered to serve consecutive terms. All members serve without compensation from the Federal Government; however, members may be reimbursed for travel and per diem depending on fiscal budgetary constraints.

Members of MEDMAC will be appointed and serve as Special Government Employees (SGEs) as defined in section 202(a) of title 18 of the United States Code. As candidates for appointment as SGEs, applicants are required to complete Confidential Financial Disclosure Reports (OGE Form 450). Applicants can obtain this form by going to the Web site of the Office of Government Ethics (www.oge.gov), or by contacting the ADFO. Applications which are not accompanied by a completed OGE Form 450 will not be considered.

Registered lobbyists are not eligible to serve on federal advisory committees. Registered lobbyists are lobbyists required to comply with the provisions contained in the Lobbying Disclosure Act of 1995 (Pub. L. 104-65 as amended).

The Department of Homeland Security (DHS) does not discriminate in employment on the basis of race, color, religion, sex, national origin, political affiliation, sexual orientation, gender identity, marital status, disability and genetic information, age, membership in an employee organization, or any other non-merit factor.

If you are interested in applying for membership of the Committee, send your cover letter and resume to LT Ashley Holm, ADFO of MEDMAC by mail, fax, or email according to the instructions in the ADDRESSES section of this notice.

This notice is available in our online docket, USCG-2011-1114, at http://www.regulations.gov by inserting USCG-2011-1114 in the “Search” box, and then clicking “Search”. Please do not post your resume on this site. During the vetting process, the applicants may be asked by the White House Liaison Office, through the Coast Guard, to provide their date of birth and social security number.

Dated: April 1, 2013.
P.F. Thomas,
Captain, U.S. Coast Guard, Director of Inspections and Compliance.

[FR Doc. 2013-08162 Filed 4-8-13; 8:45 am]

BILLING CODE 9110-04-P